DEPARTMENT OF AGRICULTURE

Forest Service

Custer National Forest Weed Treatment EIS, Custer National Forest, Stillwater, Park, Carbon, Sweetgrass, Rosebud, Powder River, and Carter Counties, Montana, and Harding County, SD

AGENCY: Forest Service, USDA.

ACTION: Notice of intent to prepare an environment impact statement.

SUMMARY: The Custer National Forest is proposing to continue control of undesirable vegetation (weeds) through the integration of mechanical, biological, ground and aerial (helicopter) herbicide control methods. The Custer National Forest is currently treating weeds under decisions made in the 1987 Custer National Forest Noxious Weed Environmental Impact Statement and Records of Decision.

Weeds are considered undesirable vegetation that can alter ecosystems or cause economic loss. Undesirable vegetation includes invasive plants that can alter ecosystem processes, including productivity, hydrologic function, nutrient cycling, and natural disturbance patterns such as frequency and intensity of wildfires. Changing these processes can lead to displacement of native plant species, eventually impacting wildlife and plant habitat, recreational opportunities, livestock forage, and scenic values. Impacts to these values can result in economic loss due to costs of treatment and opportunities foregone. Other undesirable vegetation includes poisonous plants that can cause economic loss to holders of grazing permits.

The Forest Service has identified that at least 1,300 net acres across the Custer National Forest that are in a downward trend from desired conditions due to the infestation of undesirable vegetation. The Forest Service will evaluate these known infestations and high-risk areas or conditions that may cause infestations over the next ten to fifteen years with the goal of reducing the spread and density of undesirable vegetation to allow desirable native vegetation to re-establish and regain vigor and reduce economic loss. Based on previous trend information, it is estimated that infestations could double to approximately 2,600 net acres over the next ten to fifteen years based on the Forest Service's ability to treat weeds at historic funding levels. The purpose and need for this project is for the Forest Service to improve the trend of the ecological condition toward desirable vegetation, reduce economic loss, and allow for adaptive management to treat anticipated new infestations across the Custer National Forest over the next ten to fifteen years. The proposed actions being considered to achieve the purpose and need include implementing an integrated pest management program aimed at controlling new starts, priority areas and areas of minor infestations, and implementing holding actions on areas of existing large infestations.

DATES: Comments concerning the scope of the analysis should be received in writing on or before September 15, 2003.

ADDRESSES: Send written comments to Forest Supervisor, Custer National Forest, 1310 Main St., Billings, Montana 59105.

FOR FURTHER INFORMATION CONTACT: Direct questions about the proposed action and EIS to Kim Reid, Project Coordinator, 1310 Main St., Billings, Montana 59105, phone (406) 657-6200 ext. 233, or e-mail kreid@fs.fed.us.

SUPPLEMENTARY INFORMATION: These management activities would be administered by the Custer National Forest in Stillwater, Park, Carbon, Sweetgrass, Rosebud, Powder River, and Carter Counties, Montana, and Harding County, South Dakota. The EIS will tier to the 1987 Custer National Forest and Grasslands Land and Resource Management Plan (Forest Plan), which provide the overall management direction for the area. The proposed action is consistent with the Forest Plan. The purpose of the Forest Service proposal is to further movement towards desired conditions outlined in the Forest Plan, by:

• Protecting the natural condition and biodiversity of the Custer National Forest by preventing or limiting the spread of aggressive, non-native plant species that displace native vegetation.

• Promptly eliminating new invaders (species not previously reported in the area) before they become established.

• Reducing known and potential weed seed sources on trailheads and campsites, along main roads and trails, within powerline corridors, and in wildlife and livestock use areas.

• Preventing or limiting the spread of established weed into areas containing little or no infestation.

• Protecting sensitive and unique habitats including the Absaroka-Beartooth Wilderness Area, West Fork of Rock Creek (municipal watershed for Red Lodge), critical winter ranges, research natural areas, riparian areas, and sensitive plant populations.

• Reducing economic loss from livestock poisoning.

The proposed actions will be consistent with the Forest Plan, which provides goals, objectives, standards and guidelines of the various activities and land allocations on the forest. The Forest Plan allocates the project area into twenty management areas; Weeds occur within all twenty management areas. Private lands are also included within the project area boundary. Although excluded from Forest Service activities, project access and the condition of private lands will be considered during alternative development and when analyzing potential cumulative effects.

The key issue topics identified to date include:

• The current and potential impacts of weeds on natural resources such as critical big game habitat, native plant communities, wilderness values, watersheds, and threatened, endangered, or sensitive species, as well as impacts to economic factors.

• Economics, effectiveness, and potential impacts of various control methods on natural resources.

• Potential effects on non-target native plants and associated values, wildlife and fish populations, and human health from the application of herbicides.

The areas the Forest Service plan to analyze include:

Ranger district | Maximum treatment acreage ¹ | Location township, range
Beartooth | 400 | Between T35—T9S and between R13E-R20E; Between T7S-T8S and between R25E to R28E (Principle Meridian).
Sioux | 500 | Between TIN-T2N and between R57E-R59E; T1S and between R57E to R58E; Between T1S-T3S and between R60-62 (Principle Meridian); T16N-T22N and between R1E-R9E (Black Hills Meridian).
Ashland | 1,700 | Between T1S-T7S and between R43E-R48E (Principle Meridian).
¹ These are the maximum projected treatment acres. Actual treatment acres may be less.

A range of reasonable alternatives will be considered, including a no action alternative. Other alternatives will examine various combinations of weed treatment. Based on the issues gathered through scoping, the action alternatives will vary in the amount and location of acres considered for treatment and the number, type, and location of activity.

Public participation will be especially important at several points during the analysis, beginning with the scoping process (40 CFR 1501.7). The Forest Service will be seeking information, comments, and assistance from Federal, State, local agencies, tribes and other individuals or organizations who may be interested in or affected by the proposed project. This input will be used in preparation of the draft EIS. Continued scoping and public participation efforts will be used by the interdisciplinary team to identify new issues, determine alternatives in response to the issues, and determine the level of analysis needed to disclose potential biological, physical, economic, and social impacts associated with this project.

The draft EIS is expected to be filed with the Environmental Protection Agency (EPA) and to be available for public review by Spring 2004. The EPA will publish a notice of availability of the draft EIS in the Federal Register. The comment period on the draft EIS will be 45 days from the date the EPA notice appears in the Federal Register. At that time, copies of the draft EIS will be distributed to interested and affected agencies, organizations, and members of the public for their review and comment. It is important that those interested in this proposal on the Custer National Forest participate at that time.

The Forest Service believes it is important to give reviewers notice, at this early stage, of several court rulings related to public participation in the environmental review process. First, reviewers of a draft EIS must structure their participation in the environmental review of the proposal so that it is meaningful and alerts the agency to the reviewer's position and contentions. Vermont Yankee Nuclear Power Corp. v. NRDC, 435 U.S. 519, 553 (1978). Also, environmental objections that could be raised at the draft EIS stage but that are not raised until after completion of the final EIS may be waived or dismissed by the courts. City of Angoon v. Hodel, 803 f. 2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider and respond to them in the final EIS. To assist the Forest Service in identifying and considering issues and concerns on the proposed actions, comments on the draft EIS should be as specific as possible. It is also helpful if comments refer to specific pages or chapters of the draft EIS. Comments may also address the adequacy of the draft EIS or merits of the alternatives formulated and discussed in the statement. (Reviewers may wish to refer to the Council on Environmental Quality Regulations for implementing the procedural provisions of the National Environmental Policy Act at 40 CFR 1503.3 in addressing these points.)

The final EIS is scheduled for completion by the fall of 2004. In the final EIS, the Forest Service is required to respond to substantive comments received during the comment period for the draft EIS. Nancy T. Curriden, Forest Supervisor of the Custer National Forest, is the responsible official. The Forest Supervisor will decide which, if any, of the proposed project alternatives will be implemented. The decision and reasons for the decision will be documented in appropriate Records of Decision. Those decisions will be subject to Forest Service appeal regualtions (36 CFR part 215).

Dated: August 12, 2003.
Nancy T. Curriden,
Forest Supervisor.

[FR Doc. 03-20962 Filed 8-15-03; 8:45 am]

BILLING CODE 3410-00-M